INTERNATIONAL TRADE COMMISSION

[Investigation No. 337-TA-1393]

Certain Vehicle Telematics, Fleet Management, and Video-Based Safety Systems, Devices, and Components Thereof; Notice of a Commission Determination To Review in Part a Final Initial Determination and on Review, To Affirm a Finding of No Violation; Termination of the Investigation

AGENCY: U.S. International Trade Commission.

ACTION: Notice.

SUMMARY: Notice is hereby given that the U.S. International Trade Commission (“Commission”) has determined to review in part a final initial determination (“FID”) issued by the presiding administrative law judge (“ALJ”) and, on review, to affirm a finding of no violation of section 337 of the Tariff Act of 1930, as amended. The investigation is terminated with a finding of no violation.

FOR FURTHER INFORMATION CONTACT: Paul Lall, Office of the General Counsel, U.S. International Trade Commission, 500 E Street SW, Washington, DC 20436, telephone (202) 205-2043. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On March 18, 2024, the Commission instituted this investigation based on a complaint filed by Samsara, Inc. (“Samsara”) of San Francisco, California. 89 FR 19356 (March 18, 2024). The complaint alleges violations of section 337 of the Tariff Act of 1930, as amended, 19 U.S.C. 1337 (“section 337”), based upon the importation into the United States, the sale for importation, and the sale within the United States after importation of certain vehicle telematics, fleet management, and video-based safety systems, devices, and components thereof by reason of the infringement of certain claims of U.S. Patent Nos. 11,611,621 (“the '621 patent”); 11,127,130 (“the '130 patent”); and 11,190,373 (“the '373 patent”) (collectively, the “Asserted Patents”). The Commission's notice of investigation named Motive Technologies Inc. (“Motive”) of San Francisco, CA as the respondent. Id. The Office of Unfair Import Investigations (“OUII”) was also named as a party in this investigation. Id.

The presiding ALJ held an evidentiary hearing on November 14, 2024, and March 18-21, 24, and 25, 2025.

On September 8, 2025, the presiding ALJ issued the FID finding that there has been no violation of section 337. Specifically, the FID finds regarding the '621 patent that: (1) Samsara has not shown that claims 1-5 are infringed; (2) Motive has shown that claims 1, 2, 4, and 5 are invalid as anticipated; (3) Motive has not shown that claims 2-4 are invalid for obviousness; and (4) Samsara has satisfied the technical prong of the domestic industry requirement. For the '130 patent, the FID finds that: (1) Samsara has not shown that claims 1 and 5 are infringed; (2) Motive has not shown that claims 1 and 5 are invalid as anticipated or obvious; (3) Motive has shown that claims 1 and 5 are patent ineligible under 35 U.S.C. 101; and (4) Samsara has failed to satisfy the technical prong of the domestic industry requirement. Regarding the '373 patent, the FID finds that: (1) Samsara has shown that claim 15 is infringed as to Motive's “Fuel Score v1” and “Fuel Score v2,” but not as to Motive's “Fuel Score v3;” (2) Samsara has not shown that claim 18 is infringed; (3) Motive has not shown that claims 15 and 18 are invalid as anticipated or obvious; (4) Motive has shown that claims 15 and 18 are patent ineligible under 35 U.S.C. 101; and (5) Samsara has not satisfied the technical prong of the domestic industry requirement. The FID also finds that Samsara has failed to satisfy the economic prong of the domestic industry requirement for any of the Asserted Patents.

The FID includes a Recommended Determination on Remedy and Bonding (“RD”). The RD recommends that if the Commission finds a violation, it should issue a limited exclusion order and a cease and desist order against Motive, and that the Commission should impose a one hundred percent (100%) bond during the period of Presidential review.

On September 22, 2025, Samsara filed a petition for review of the FID, requesting review of the findings that: (1) Samsara has not shown that the accused products infringe claims 1-5 of the '621 patent; (2) Motive has shown that claims 1, 2, 4, and 5 of the '621 patent are invalid under 35 U.S.C. 102; (3) Samsara has not shown that the accused products infringe claims 1 and 5 of the '130 patent; (4) Samsara has not satisfied the technical prong of the domestic industry requirement for the '130 patent; (5) Motive has shown that claims 1 and 5 of the '130 patent are invalid as patent ineligible under 35 U.S.C. 101; (6) Samsara has not shown that Motive's “Fuel Score v3” infringes claim 15 of the '373 patent; (7) Samsara has not shown that the accused products infringe claim 18 of the '373 patent; (8) Motive has shown that claims 15 and 18 of the '373 patent are invalid as patent ineligible under 35 U.S.C. 101; (9) Samsara has not satisfied the technical prong of the domestic industry requirement for the '373 patent; and (10) Samsara has not satisfied the economic prong of the domestic industry requirement for any of the Asserted Patents.

Also on September 22, 2025, Motive filed a contingent petition requesting review of the FID's findings that: (1) the accused products and asserted domestic industry products satisfy certain limitations of the '130 patent; (2) claims 1 and 5 of the '130 patent are not invalid under 35 U.S.C. 103 as obvious over certain prior art; and (3) the accused products satisfy certain limitations of the '373 patent. On the same day, OUII also filed a contingent petition requesting review of the FID's findings that the accused products satisfy certain limitations of the '130 patent and the '373 patent.

On November 19, 2025, Motive filed a combined response to Samsara's and OUII's petitions for review. On the same day, Samsara filed a response to Motive's contingent petition for review. On November 21, 2025, OUII filed a combined response to Samsara's and Motive's petitions.

Having reviewed the record of the investigation, including the FID, the parties' petitions for review, and related submissions, the Commission has determined to review the FID in part. Specifically, the Commission has determined to review the FID's findings that: (1) Motive has shown that claims 1 and 5 of the '130 patent are patent ineligible under 35 U.S.C. 101; (2) Samsara has not satisfied the technical prong of the domestic industry requirement for the '373 patent; and (3) Samsara has failed to satisfy the economic prong of the domestic industry requirement for any of the Asserted Patents. On review, the Commission has determined to take no position on the issues under review. The Commission declines review of the remaining issues in the FID and has determined that there has been no violation of section 337.

The Commission vote for this determination took place on February 5, 2026.

The authority for the Commission's determination is contained in section 337 of the Tariff Act of 1930, as amended (19 U.S.C. 1337), and in Part 210 of the Commission's Rules of Practice and Procedure (19 CFR part 210).

Practice and Procedure (19 CFR part 210).

By order of the Commission.
Issued: February 5, 2026.
Lisa Barton,
Secretary to the Commission.

[FR Doc. 2026-02577 Filed 2-9-26; 8:45 am]

BILLING CODE 7020-02-P